DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before June 2, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

1. Title: Affordable Care Act Internal Claims and Appeals and External Review Disclosures.

OMB Control Number: 1545-2182.

Type of Review: Extension of a currently approved collection.

Description: Section 2719 of the Public Health Service Act, incorporated into Code section 9815 by section 1563(f) of the Patient Protection and Affordable Care Act, Public Law 111-148, requires group health plans and issuers of group health insurance coverage, in connection with internal appeals of claims denials, to provide claimants free of charge with any evidence relied upon in deciding the appeal that was not relied on in making the initial denial of the claim. This is a third-party disclosure requirement. Individuals appealing a denial of a claim should be able to respond to any new evidence the plan or issuer relies on in the appeal, and this disclosure requirement is essential so that the claimant knows of the new evidence.

Regulation Project Number: REG-125592-10 (TD 9494).

Affected Public: Businesses or other for-profit organizations.

Estimated Number of Respondents: 1,769,264.

Frequency of Response: On occasion.

Estimated Total Number of Annual Responses: 278,413.

Estimated Total Annual Burden Hours: 2,271 hours.

2. Title: PTIN Supplemental Application for U.S. Citizens Without A Social Security Number Due To Conscientious Religious Objection.

OMB Control Number: 1545-2188.

Type of Review: Extension of a currently approved collection.

Description: Form 8945 is used by U. S. citizens who are members of certain recognized religious groups that want to prepare tax returns for compensation. Most individuals applying for a Preparer Tax Identification Number (PTIN) will have a social security number, which will be used to help establish their identity. However, there exists a population of U.S. residents that are religious objectors and do not have social security numbers. Form 8945 was created to assist that population in establishing their identity while applying for a PTIN.

Form Number: IRS Form 8945.

Affected Public: Businesses and other for-profit organizations.

Estimated Number of Respondents: 500.

Frequency of Response: On occasion.

Estimated Total Number of Annual Responses: 500.

Estimated Time per Response: 7 hours, 11 minutes.

Estimated Total Annual Burden Hours: 3,590 hours.

Authority: 44 U.S.C. 3501 et seq.

Dated: April 27, 2021.
Molly Stasko,
Treasury PRA Clearance Officer.

[FR Doc. 2021-09183 Filed 4-30-21; 8:45 am]

BILLING CODE 4830-01-P